DEPARTMENT OF JUSTICE

Antitrust Division

Notice Pursuant to the National Cooperative Research and Production Act of 1993—Spray Drift Task Force

Notice is hereby given that, on March 3, 2003, pursuant to section 6(a) of the National Cooperative Research and Production Act of 1993, 15 U.S.C. 4301 et seq. (“the Act”), Spray Drift Task Force has filed written notifications simultaneously with the Attorney General and the Federal Trade Commission disclosing changes in its membership status. The notifications were filed for the purpose of extending the Act's provisions limiting the recovery of antitrust plaintiffs to actual damages under specified circumstances. Specifically, the membership held by Aventis CropScience LP, Research Triangle, NC has been transferred to Nippon Soda Company, Ltd., Tokyo, JAPAN; and Chimac-Agriphar S.A., Ougree, BELGIUM has become a party to the venture.

No other changes have been made in either the membership or planned activity of the group research project. Membership in this group research project remains open, and Spray Drift Task Force intends to file additional written notification disclosing all changes in membership.

On May 15, 1990, Spray Drift Task Force filed its original notification pursuant to Section 6(a) of the Act. The Department of Justice published a notice in the Federal Register pursuant to Section 6(b) of the Act on July 5, 1990 (55 FR 27701).

The last notification was filed with the Department on February 26, 2002. A notice was published in the Federal Register pursuant to section 6(b) of the Act on March 27, 2002 (67 FR 14731).

Constance K. Robinson,
Director of Operations, Antitrust Division.

[FR Doc. 03-8267 Filed 4-3-03; 8:45 am]

BILLING CODE 4410-11-M